LEGAL SERVICES CORPORATION

Sunshine Act Meeting of the Board of Directors

TIME AND DATE: The 1999 Annual Performance Reviews Committee of the Legal Services Corporation's Board of Directors will meet on January 24, 2000 via tele-conference. The meeting will begin at 12:00 p.m. and continue until conclusion of the Committee's agenda.

LOCATION: Legal Services Corporation, 750 First Street, NE, Room 11026, Washington, DC 20002, in Room 11026.

STATUS OF MEETING: Closed. The closing is authorized by the relevant provisions of the Government in the Sunshine Act [5 U.S.C. 552b(c) (10)] and the corresponding provisions of the Legal Services Corporation's implementing regulation [45 CFR 1622.5(h)]. A copy of the General Counsel's Certification that the closing is authorized by law will be available upon request.

MATTERS TO BE CONSIDERED:

1. Approval of the agenda.

2. Consider and act on report to the Board of Directors on the annual evaluations of the President and the Inspector General for FY 1999.

3. Consider and act on other business.

CONTACT PERSON FOR INFORMATION: Victor M. Fortuno, Vice President for Legal Affairs, General Counsel & Corporate Secretary, at (202) 336-8810.

SPECIAL NEEDS: Upon request, meeting notices will be made available in alternate formats to accommodate visual and hearing impairments. Individuals who have a disability and need an accommodation to attend the meeting may notify Shannon Nicko Adaway, at (202) 336-8810.

Dated: January 14, 2000.
Victor M. Fortuno,
Vice President for Legal Affairs, General Counsel & Corporate Secretary.

[FR Doc. 00-1325 Filed 1-14-00; 1:19 pm]

BILLING CODE 7050-01-P